DEPARTMENT OF HEALTH AND HUMAN SERVICES

Substance Abuse and Mental Health Services Administration

Fiscal Year (FY) 2003 Funding Opportunity

AGENCY: Substance Abuse and Mental Health Services Administration, HHS.

ACTION: Notice of funding availability for SAMHSA Cooperative Agreements to Expand the National Child Traumatic Stress Initiative Community Treatment and Services Centers.

SUMMARY: The Substance Abuse and Mental Health Services Administration (SAMHSA), Center for Mental Health Services (CMHS) announces the availability of FY 2003 funds for the cooperative agreement described below. A synopsis of this funding opportunity, as well as many other Federal Government funding opportunities, is also available at the Internet site: www.fedgrants.gov

This notice is not a complete description of the program; potential applicants must obtain a copy of the Request for Applications (RFA), including Part I, Cooperative Agreements to Expand the National Child Traumatic Stress Initiative Community Treatment and Services Centers, Part II, General Policies and Procedures Applicable to all SAMHSA applications for Discretionary Grants and Cooperative Agreements, and the PHS 5161-1 (Rev. 7/00) application form before preparing and submitting an application.

Funding Opportunity Title: Cooperative Agreements to Expand the National Child Traumatic Stress Initiative—Short Title: Child Traumatic Stress Initiative Community Treatment and Services Centers

Funding Opportunity Number: SM-03-012.

Catalog of Federal Domestic Assistance (CFDA) Number: 93.243.

Authority: Section: 582 of the Public Health Service Act, as amended and subject to the availability of funds.

Funding Opportunity Description: The Substance Abuse and Mental Health Services Administration (SAMHSA), Center for Mental Health Services (CMHS), is accepting applications for Fiscal Year 2003 cooperative agreements to expand the National Child Traumatic Stress Initiative (NCTSI) Community Treatment and Services Centers. The purpose of the NCTSI is to improve treatment and services for all children and adolescents in the United States who have experienced traumatic events or witnessed such events. A network of centers, the NCTSN, has been established to promote the development and use of effective treatment and services, to develop resources on trauma for professionals, consumers, and the public, and to develop trauma-focused public education and professional training and other field development activities.

Eligible Applicants: The following domestic public and private non-profit entities are eligible to apply. Community-based and faith-based organizations, out-patient clinics, public or private universities, psychiatric or general hospitals, units of State or local governments, Indian tribes, partnership of multiple clinical centers, programs and/or community service providers applying as a single center (in which case one of the participating organizations must be designated as the applicant organization).

It is SAMHSA's intent to ensure the broadest possible distribution of NCTSI grant funds across the U.S. Therefore, applicant organizations from the following States will be given priority consideration for grant awards for the Community Treatment and Services Center program because they do not currently have a NCTSI center: Alaska, Arizona, Arkansas, Delaware, Georgia, Hawaii, Idaho, Indiana, Iowa, Kansas, Kentucky, Louisiana, Maryland, Michigan, Minnesota, Mississippi, Montana, Nebraska, Nevada, New Hampshire, New Jersey, North Carolina, North Dakota, Oklahoma, Rhode Island, South Carolina, South Dakota, Tennessee, Texas, Vermont, West Virginia, Wisconsin, and Wyoming.

Applicant organizations from one of the above states are permitted to partner with other centers or programs from States not included in the above list. Applicants from States that are not listed will receive consideration for funding only if there are not enough highly-qualified applicants from the listed States.

Due Date for Applications: August 7, 2003

Estimated Funding Available/Number of Awards: It is expected that approximately $4.8 million will be available to fund 12 new Community Treatment and Services Centers to participate in the National Child Traumatic Stress Network (NCTSN). Annual awards may be up to $400,000 in total costs (direct and indirect costs) for each year for up to 4 years. Actual funding levels will depend on the availability of funds. Second, third, and fourth project year funding may be supplemented by SAMHSA for activities that fall within the scope and intent of this RFA. Applications with proposed budgets that exceed $400,000 in any year of the project will be returned without review.

Is Cost Sharing Required: No.

Period of Support: Applicants must request support for four years and provide a separate budget for each year. While SAMHSA's intent for this program is to fund for the full four year period requested, continued funding is contingent on the availability of funds.

How to Get Full Announcement and Application Materials: Complete application kits may be obtained by calling: the SAMHSA Mental Health Information Center at (800) 789-2647, Monday through Friday, 8:30 A.M. to 5 P.M., EDT; TDD: (301) 443-9006; Fax: (301) 984-8796; P.O. Box 42490, Washington, DC 20015. The PHS 5161-1 application form and the full text of the funding announcement are also available electronically via SAMHSA's World Wide Web Home Page: http://www.samhsa.gov (Click on ‘Grant Opportunities’).

When requesting an application kit, the applicant must specify the funding opportunity title and number for which detailed information is desired. All information necessary to apply, including where to submit applications and application deadline instructions, are included in the application kit.

Contact for Additional Information: Christine Guthrie, M.P.H., Substance Abuse and Mental Health Services Administration, Center for Mental Health Services, Division of Prevention, Traumatic Stress, and Special Programs, 5600 Fishers Lane, Room 17C-25, Rockville, MD 20857, (301) 443-0691, e-mail: cguthrie@samhsa.gov

Dated: June 24, 2003.
Anna Marsh,
Acting Executive Officer, Substance Abuse and Mental Health Services Administration.

[FR Doc. 03-16418 Filed 6-27-03; 8:45 am]

BILLING CODE 4162-20-P